Title 3—

The President

Proclamation 8533 of June 10, 2010

90th Anniversary of the Department of Labor Women’s Bureau, 2010

By the President of the United States of America

A Proclamation

Throughout our history, American women have played a vital role in the growth and vitality of our Nation’s economy. They have tirelessly balanced responsibilities to work, family, and community, strengthening our economic leadership and enriching our national life. Today, there are more women in America’s workforce than ever before, yet they still face significant obstacles to equal economic opportunity and advancement.

Recognizing the challenges women confronted in the workforce, the Congress established the Women’s Bureau in the Department of Labor on June 5, 1920, 2 months before women gained the right to vote. For the past 90 years, the Women’s Bureau has been a champion for working women nationwide through its commitment to advancing employment opportunities, improving their working conditions, and helping them achieve economic security.

As women surged into the labor force, the Women’s Bureau tackled the barriers to their economic advancement. Early in its history, the Women’s Bureau advocated for the successful inclusion of women under the Fair Labor Standards Act of 1938, establishing minimum wages and maximum working hours. The Bureau also played an instrumental role in the passage of the Equal Pay Act of 1963. And the first law that I signed as President—the Lilly Ledbetter Fair Pay Restoration Act—builds upon these vital protections to ensure people subjected to discrimination have better access to a remedy.

Equal economic opportunity and wage parity are not simply women’s issues—they are American issues. As a Nation, we must recommit to the enduring vision of the Women’s Bureau and work to support all wage-earning women. With the hard-fought progress of the past as a foundation, we can build a better and brighter tomorrow, one in which our daughters have an equal right and opportunity to pursue the American Dream.

NOW, THEREFORE, I, BARACK OBAMA, President of the United States of America, by virtue of the authority vested in me by the Constitution and the laws of the United States, do hereby proclaim June 11, 2010, as the 90th Anniversary of the Department of Labor Women’s Bureau. I call upon all Americans to observe this anniversary with appropriate programs, ceremonies, and activities that honor the Bureau’s history, accomplishments, and contributions to working women.

IN WITNESS WHEREOF, I have hereunto set my hand this tenth day of June, in the year of our Lord two thousand ten, and of the Independence of the United States of America the two hundred and thirty-fourth.

[FR Doc. 2010-14724

Filed 6-15-10; 11:15 am]

Billing code 3195-W0-P